DEPARTMENT OF AGRICULTURE

Forest Service

Fresno County Resource Advisory Committee

AGENCY: Forest Service, USDA.

ACTION: Notice of meeting.

SUMMARY: The Fresno County Resource Advisory Committee will be meeting in Prather, California on January 13, 2010 and Clovis, California on January 27, 2010. The purpose of the January 13th meeting will be to review new project proposals that were submitted by the January 8th due date and the purpose of the meeting on January 27th will be to vote and approve projects to be funded under the Secure Rural Schools and Community Self-Determination Act of 2000 (Pub. L. 110-343).

DATES: The meetings will be held on January 13, 2010 from 6 p.m. to 8:30 p.m. in Prather, CA and January 27, 2010 from 6 p.m. to 8:30 pm in Clovis, CA.

ADDRESSES: The meeting on January 13th will be held at the High Sierra Ranger District, 29688 Auberry Rd., Prather, CA and the meeting on January 27th will be held at the Sierra National Forest Supervisor's Office, 1600 Tollhouse Rd., Clovis, CA. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting. If you wish to make a presentation on your project proposal please contact Robbin Ekman by January 6, 2010. Agenda items to be covered include: (1) Review new project proposals and (2) Vote on projects to be funded.

Dated: November 23, 2009.
Ray Porter,
District Ranger.

[FR Doc. E9-28488 Filed 11-30-09; 8:45 am]

BILLING CODE 3410-11-M